Title 3—

The President

Proclamation 8290

National POW/MIA Recognition Day, 2008

By the President of the United States of America

A Proclamation

On National POW/MIA Recognition Day, we honor the brave and patriotic Americans who were held as prisoners of war, and we remember those who are still missing in action. For their valor and selfless devotion to protect the country they love, our Nation owes them a debt we can never fully repay. On this day we underscore our commitment and pledge to those who are still missing in action and to their families that we will not rest until we have achieved the fullest possible accounting for every member of our Armed Forces missing in the line of duty.

To observe this important day, the National League of Families POW/MIA flag is flown over the Capitol, the White House, the World War II Memorial, the Korean War Veterans Memorial, the Vietnam Veterans Memorial, and other locations across our country. The flag is a solemn reminder of our Nation's enduring obligation and promise to our courageous service members who remain missing and a tribute to those who have been imprisoned while serving their country in conflicts around the world.

NOW, THEREFORE, I, GEORGE W. BUSH, President of the United States of America, by virtue of the authority vested in me by the Constitution and laws of the United States, do hereby proclaim Friday, September 19, 2008, as National POW/MIA Recognition Day. I call upon the people of the United States to join me in honoring and remembering all former American prisoners of war and those missing in action for their valiant service to our Nation. I also call upon Federal, State, and local government officials and private organizations to observe this day with appropriate ceremonies and activities.

IN WITNESS WHEREOF, I have hereunto set my hand this seventeenth day of September, in the year of our Lord two thousand eight, and of the Independence of the United States of America the two hundred and thirty-third.

[FR Doc. E8-22181

Filed 9-18-08; 11:15 am]

Billing code 3195-01-P